DEPARTMENT OF COMMERCE

National Oceanic and Atmospheric Administration

Proposed Information Collection; Comment Request; Northeast Multispecies Days-At-Sea Leasing Program

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 7, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Moira C. Kelly, National Marine Fisheries Service, 1 Blackburn Drive, Gloucester, MA 01930 (or Moira.Kelly@noaa.gov.)

SUPPLEMENTARY INFORMATION:

I. Abstract

A proposed emergency rule for the NE Multispecies Fishery Management Plan (FMP) was published in the Federal Register on April 24, 2003 (68 FR 20096). The emergency rule was used to continue management measures specified in the Settlement Agreement Among Certain Parties (Settlement Agreement), which were implemented as ordered by the U.S. District Court for the District of Columbia (Court) in a Remedial Order issued on May 23, 2002 (Order). The emergency rule included several management measures designed to reduce overfishing on species managed under the NE Multispecies FMP, including a Days-At-Sea (DAS) Leasing Program, and was published in order to continue the measures until the implementation of Amendment 13.

The final rule for Amendment 13 to the NE Multispecies FMP was published in the Federal Register on April 27, 2004 (69 FR 22906). Amendment 13 was developed by the New England Fishery Management Council (Council) primarily to end overfishing on all groundfish stocks and to rebuild all groundfish stocks that are overfished. Amendment 13 included substantial reductions in the amount of effort available to target groundfish stocks. Therefore, Amendment 13 resulted in considerable reductions in the number of DAS for NE multispecies vessels.

The reduction in the DAS allocated to NE multispecies permit holders limited the ability of some vessels to participate in the fishery, resulting in a loss of revenue and/or the ability to operate at a profit. In order to mitigate some of the adverse economic impacts of the effort reductions, the DAS Leasing Program was established by the Council, among other provisions, in Amendment 13. The DAS Leasing Program enables vessels to increase their revenue by either leasing additional DAS from another vessel or using them to increase their participation in the fishery, or by leasing their allocated DAS that they may not use to another vessel.

II. Method of Collection

Applications will be submitted by mail.

III. Data

OMB Number: 0648-0475.

Form Number: None.

Type of Review: Regular submission.

Affected Public: Business or other for-profit organizations; individuals or households.

Estimated Number of Respondents: 1,400.

Estimated Time per Response: 5 minutes.

Estimated Total Annual Burden Hours: 233.

Estimated Total Annual Cost to Public: $1,176.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 30, 2005.
Gwellnar Banks,
Management Analyst, Office of the Chief Information Officer.

[FR Doc. E5-8324 Filed 1-5-06; 8:45 am]

BILLING CODE 3510-22-P